DEPARTMENT OF ENERGY

Federal Energy Regulatory Commission

[Docket No. RP01-526-000]

Dominion Transmission, Inc.; Notice of Tariff Filing and Annual Charge Adjustment

September 5, 2001.

Take notice that on August 29, 2001, Dominion Transmission, Inc. (DTI) tendered for filing as part of its FERC Gas Tariff, Third Revised Volume No. 1, the following tariff sheets, with an effective date of October 1, 2001:

Sixth Revised Sheet No. 31

Ninth Revised Sheet No. 32

Fifth Revised Sheet No. 35

DTI states that the purpose of this filing is to update DTI's ACA unit surcharge, consistent with its ACA clause (General Terms and Conditions, Section 14).

DTI states that copies of its letter of transmittal and enclosures have been served upon DTI's customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22732 Filed 9-10-01; 8:45 am]

BILLING CODE 6717-01-P